DEPARTMENT OF COMMERCE

National Institute of Standards and Technology

Deprecation of the United States (U.S.) Survey Foot

AGENCY: The National Institute of Standards and Technology and the National Geodetic Survey (NGS), National Ocean Service (NOS), National Oceanic and Atmospheric Administration (NOAA), Department of Commerce (DOC).

ACTION: Notice, delay in publication of final determination.

SUMMARY: The National Institute of Standards and Technology (NIST) and the National Geodetic Survey (NGS), National Ocean Service (NOS), National Oceanic and Atmospheric Administration (NOAA), announced collaborative action to provide national uniformity in the measurement of length in an October 17, 2019, Federal Register notice and anticipated conducting the public comment review and analysis, and publishing and publicly announcing the resulting decision to deprecate the use of the U.S. survey foot before June 30, 2020. It is necessary to announce a 90-day extension of the review and analysis period to address public comments. The final determination will be published by September 28, 2020.

DATES: Final determination to be published on or before September 28, 2020.

ADDRESSES: NIST and NOAA have used the https://www.regulations.gov system for the electronic submission and posting of the seventy-two public comments received in this proceeding between October 17, 2019, and December 2, 2019. All comments submitted in response to the previous notice are accessible at https://www.regulations.gov, docket number NIST-2019-0003, under the “Enhanced Content” section of the Federal Register web page for that notice.

FOR FURTHER INFORMATION CONTACT: U.S. survey foot deprecation resources: https://www.nist.gov/pml/us-surveyfoot.

New Datums: Replacing NAVD 88 and NAD 83: https://www.ngs.noaa.gov/datums/newdatums/index.shtml.

Information on standards development and maintenance: Elizabeth Benham, 301-975-3690, Elizabeth.Benham@nist.gov.

Technical and historical information on usage of the foot: Michael Dennis, 240-533-9611, Michael.Dennis@noaa.gov.

SUPPLEMENTARY INFORMATION: On October 17, 2019, NIST/NOAA published a notice to deprecate the survey foot titled “Deprecation of the United States (U.S.) Survey Foot” in the Federal Register (84 FR 55562). In that notice, NIST/NOAA proposed to deprecate the “U.S. survey foot” and to require that its use in surveying, mapping, and engineering be discontinued. The intent of this action is to provide national uniformity of length measurement in an orderly fashion with minimum disruption, correcting a measurement dilemma that has persisted for over 60 years.

Deprecation of the U.S. survey foot is associated with ongoing efforts by NGS to modernize the National Spatial Reference System (NSRS), originally planned to occur in 2022. However, operational, workforce, and other issues have arisen causing NGS to re-evaluate the timing of the modernized NSRS launch. NGS has conducted a comprehensive analysis of ongoing projects, programs, and resources required to complete NSRS modernization and will continue to provide regular progress updates that may be obtained by visiting the “New Datums” web pages (https://geodesy.noaa.gov/datums/newdatums/index.shtml).

NGS and the NIST Office of Weights and Measures continue to evaluate the seventy-two public comments received, identify issues, and develop appropriate solutions related to the deprecation of the U.S. survey foot. Although deprecation is associated with modernizing the NSRS, the planned effective date of December 31, 2022, provided in the October 17, 2019, notice remains the same and is independent from the NSRS modernization implementation timeline. The difference in timelines will have no effect on users of the existing NSRS, and it will ensure that deprecation of the U.S. survey foot occurs prior to the rollout of the modernized NSRS. The planned publication date of the notice summarizing public comment findings has been extended by 90 days from June 30, 2020, to September 28, 2020.

Kevin A. Kimball,
Chief of Staff.

[FR Doc. 2020-14882 Filed 7-9-20; 8:45 am]

BILLING CODE 3510-13-P